DEPARTMENT OF ENERGY

Federal Energy Regulatory Commission

[Docket No. EG02-77-000]

Northwestern Wind Power, LLC; Notice of Application for Commission Determination of Exempt Wholesale Generator Status

January 31, 2002.

Take notice that on January 25, 2002, Northwestern Wind Power, LLC, 3313 West Second Street, The Dalles, Oregon 97058, filed with the Federal Energy Regulatory Commission (Commission) an application for determination of exempt wholesale generator status pursuant to part 365 of the Commission's regulations.

The Applicant proposes to develop and own a wind powered generation facility. Upon completion of Phase Two of the project, the facility will have a maximum capacity of 49.5 megawatts. The facility will be located in Sherman County, Oregon. Phase One of the facility is operational and producing test power. Phase Two of the facility is scheduled to be completed by September 1, 2002.

Any person desiring to intervene or to protest this filing should file with the Federal Energy Regulatory Commission, 888 First Street, N.E., Washington, D.C. 20426, in accordance with Rules 211 and 214 of the Commission's Rules of Practice and Procedure (18 CFR 385.211 and 385.214). Protests will be considered by the Commission to determine the appropriate action to be taken, but will not serve to make protestants parties to the proceedings. Any person wishing to become a party must file a motion to intervene. All such motions and protests should be filed on or before the comment date and to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see, 18 CFR 385.2001(a)(1)(iii) and the instructions on the Commission's web site under the “e-Filing” link.

Comment Date: February 11, 2002.

Linwood A. Watson, Jr.,
Acting Secretary.

[FR Doc. 02-2776 Filed 2-5-02; 8:45 am]

BILLING CODE 6717-01-P